ENVIRONMENTAL PROTECTION AGENCY

[EPA-HQ-OECA-2013-0317; FRL-9907-13-OEI]

Information Collection Request Submitted to OMB for Review and Approval; Comment Request; NESHAP for Gold Mine Ore Processing (Renewal)

AGENCY: Environmental Protection Agency (EPA).

ACTION: Notice.

SUMMARY: The Environmental Protection Agency has submitted an information collection request (ICR), “NESHAP for Gold Mine Ore Processing (40 CFR Part 63, Subpart EEEEEEE) (Renewal)” (EPA ICR No. 2383.03, OMB Control No. 2060-0659) to the Office of Management and Budget (OMB) for review and approval in accordance with the Paperwork Reduction Act (44 U.S.C. 3501 et seq.). This is a proposed extension of the ICR, which is currently approved through April 30, 2014. Public comments were previously requested via the Federal Register (78 FR 35023) on June 11, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 27, 2014.

ADDRESSES: Submit your comments, referencing Docket ID Number EPA-HQ-OECA-2013-0317, to: (1) EPA online using www.regulations.gov (our preferred method), by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit: http://www.epa.gov/dockets.

Abstract: The NESHAP for Gold Mine Ore Processing (40 CFR Part 63, Subpart EEEEEEE) were proposed on April 28, 2010, and promulgated on December 16, 2010. The owner or operator of either an existing or new affected source is required to prepare and submit an initial notification report of applicability and an initial notification of compliance status. Each owner or operator of either an affected source is required to keep records to document compliance with the mercury emission limits and also maintain records of all monitoring data and specified process throughput data. If a deviation from the rule requirements occurs, an affected source is required to submit a compliance report for that semi-annual reporting period.

Form Numbers: None.

Respondents/affected entities: Owners or operators of gold mine ore processing facilities.

Respondent's obligation to respond: Mandatory (40 CFR part 63, subpart EEEEEEE).

Estimated number of respondents: 21 (total).

Frequency of response: Initially, semiannually, and annually.

Total estimated burden: 2,358 hours (per year). “Burden” is defined at 5 CFR 1320.3(b).

Total estimated cost: $445,124 (per year), which includes $227,130 in either annualized capital/startup or operation & maintenance costs.

Changes in the Estimates: There is an adjustment increase in the respondent burden and a decrease in Agency burden. In addition, there is a decrease in total capital and O&M costs. This situation is not due to any program changes. The changes in the burden and cost estimates occurred because the standard has been in effect for more than three years and the requirements are different during initial compliance (new facilities) as compared to on-going compliance (existing facilities). The previous ICR reflected those burdens and costs associated with the initial activities for subject facilities. This includes purchasing monitoring equipment, preparing initial notifications, and establishing recordkeeping systems. This ICR largely reflects both the on-going burden and costs for existing facilities. Activities for existing source include the continuously monitoring of mercury and the submission of annual and semiannual reports.

Richard T. Westlund,
Acting Director, Collection Strategies Division.

[FR Doc. 2014-03985 Filed 2-24-14; 8:45 am]

BILLING CODE 6560-50-P